FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

311 LLC dba Ocean Transport (NVO & OFF), 10731 NW., 20th Court, Sunrise, FL 33322, Officers: Clara A. Diaz, Manager Member (QI), Gary O. Diaz, Manager Member, Application Type: New NVO & OFF License

American Container Line, Inc. (NVO & OFF), 15514 San Milo Drive, 1st Floor, Houston, TX 77068, Officer: Iqbal Q. Chowdhury, President (QI), Application Type: Add OFF Service

Avanti Transport Services Incorporated (NVO & OFF), 6060 W. Manchester Blvd., Suite 100, Los Angeles, CA 90045, Officer: Mark C. Baltasar, President (QI), Application Type: QI Change

Bruzzone Shipping, Inc. (NVO & OFF), 224 Buffalo Avenue, Freeport, NY 10520, Officers:, Victor J. Bruzzone, President (QI), Fred A. Bruzzone, Vice President, Application Type: Add NVO Service

Compass Freight Forwarding, Inc. (NVO & OFF), 6345 Coliseum Way, Oakland, CA 94621, Officers: Matilde H. Fernandes, Treasurer (QI), Victor R. Lacayo, President, Application Type: New NVO & OFF License

Da-Wood Trading LLC (NVO & OFF), 110 Godley Road, Suite A, Port Wentworth, GA 31407, Officer: Lucas Francis, Member (QI), Application Type: Add OFF Service

DHY Shipping Line, Inc. (NVO & OFF), 8 Sagebrush Circle, Pomona, CA 91766, Officers: Fnu Susuanti, Secretary (QI), Hsiu Yu Yeh, President, Application Type: New NVO & OFF License

E.T.H. Cargo Services Inc. (NVO & OFF), Avenida Galica Q 891, Carolina, PR 00983, Officers:, Wolfgang Herzig, President (QI), Claudia B. Herzig, Secretary, Application Type: Add NVO Service

East Point Group LLC dba Paradise Freight (NVO & OFF), 40 Castle Coakley, Christiansted, VI 00820, Officer: Matthew Leonard, Member (QI), Application Type: New NVO & OFF License

Maritime and Intermodal Logistics Systems, Inc. dba Mils dba Fesco, Integrated Transport (NVO & OFF), 1000 Second Avenue, Suite 1310, Seattle, WA 98104, Officers: Junko Altman, Secretary (QI), Michael Evans, President, Application Type: Name Change to Fesco Integrated Transport North

Neptune Shipping Limited dba Novalink Logistics (NVO), 2085 S. Atlantic Blvd., Suite H, Montery Park, CA 91754, Officers: Jennifer aka Pei Pei Li, Vice President (QI), Alex X. Xu, CFO, Application Type: QI Change

Ocean Trade Lines, Inc. (NVO), 2412 N. SR 7, Lauderdale Lakes, FL 33313, Officer: Konstantinos Constant, President (QI), Application Type: QI Change

Promax Automotive, Inc. (NVO & OFF), 33533 W. 12 Mile Road, Suite 300, Farmington Hills, MI 48331, Officers: Junichi Kikuchi, President (QI), Gene J. Esshaki, Secretary, Application Type: License Transfer to Itochu Automobile America Inc.

Redline USA Inc (NVO), 3550 NW 115th Avenue, Miami, FL 33178, Officer: Carlos Zilli, President (QI), Application Type: New NVO License

Route 809 Freight Forward LLC (NVO & OFF), 7801 NW 66th Street, Miami, FL 33166, Officers: Eduardo Pichardo, Manager Member (QI), Indhira Pantaleon, Manager Member, Application Type: Add NVO Service

Royal Shipping Company, LLC (NVO), 491 N. James Road, Columbus, OH 43219, Officer: Nicholas Armah, Member (QI), Application Type: New NVO License

Seacoast Logistics Inc. (NVO & OFF), 2 Marshall Road, Unit D1, Kingston, NH 03848, Officer: Lauren Farrand, President (QI), Application Type: New NVO & OFF License

WS Project Services, Inc. (NVO), 13831 Northwest Freeway, Suite 410, Houston, TX 77040, Officers: Liang Yan, President (QI), Yan Wang, Vice President, Application Type: QI Change

By the Commission.
Dated: April 26, 2013.
Rachel E. Dickon,
Assistant Secretary.

[FR Doc. 2013-10343 Filed 5-1-13; 8:45 am]

BILLING CODE 6730-01-P